DEPARTMENT OF LABOR

Employment and Training Administration

[TA-W-60,140]

Tap Holdings, LLC; Los Angeles, CA; Notice of Negative Determination Regarding Application for Reconsideration

By application postmarked December 18, 2006, petitioners requested administrative reconsideration of the Department's negative determination regarding eligibility to apply for Trade Adjustment Assistance (TAA), applicable to workers and former workers of the subject firm. The denial notice was signed on November 16, 2006 and published in the Federal Register on November 28, 2006 (71 FR 68841).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of TAP Holdings, LLC, Los Angeles, California engaged in production of re-manufactured carburetors and throttle body injection units was denied because the “contributed importantly” group eligibility requirement of Section 222 of the Trade Act of 1974, as amended, was not met, nor was there a shift in production from that firm to a foreign country in 2004, 2005 or January through August, 2006. The “contributed importantly” test is generally demonstrated through a survey of the workers' firm's customers. The survey revealed no imports of re-manufactured carburetors and throttle body injection units during the relevant period. The subject firm did not import re-manufactured carburetors and throttle body injection units nor did it shift production to a foreign country during the relevant period.

The petitioner states that the subject firm lost its business producing carburetors as a direct result of the increasing presence of electronic fuel injectors in the automobile industry. The petitioner also states that imports of electronic fuel injectors have increased and thus workers of the subject firm who manufacture re-manufactured carburetors and throttle body injection units should be eligible for TAA.

In order to establish import impact, the Department must consider imports that are like or directly competitive with those produced at the subject firm. The Department conducted a survey of the subject firm's major declining customers regarding their purchases of re-manufactured carburetors and throttle body injection units. The survey revealed that the declining customers did not increase their imports of re-manufactured carburetors and throttle body injection units during the relevant period.

The petitioner also requested that workers of TAP Holdings, LLC, Los Angeles, California be considered eligible for TAA as a secondary affected company. The petitioner provided a list of TAA certified companies to which the subject firm allegedly supplied components during the relevant time period.

For certification on the basis of the workers' firm being a secondary upstream supplier, the subject firm must produce a component part of the article that was the basis for the customers' certification.

A company official was contacted to verify whether the subject firm supplied re-manufactured carburetors and throttle body injection units to the companies provided by the petitioner. The company official stated that TAP Holdings, LLC, Los Angeles, California did not directly sell to these companies and that these companies were not customers of the subject firm during the relevant time period. The Department conducted a further investigation and determined that none of the customers of the subject firm were certified eligible for TAA during the relevant time period.

Conclusion

After review of the application and investigative findings, I conclude that there has been no error or misinterpretation of the law or of the facts which would justify reconsideration of the Department of Labor's prior decision. Accordingly, the application is denied.

Signed at Washington, DC this 5th day of February, 2007.
Elliott S. Kushner,
Certifying Officer, Division of Trade Adjustment Assistance.

[FR Doc. E7-2285 Filed 2-9-07; 8:45 am]

BILLING CODE 4510-FN-P